DEPARTMENT OF AGRICULTURE

Forest Service

Notice of Proposed New Fee Sites; Federal Lands Recreation Enhancement Act, (Title VIII, Pub. L. 108-447)

AGENCY: Willamette National Forest, USDA Forest Service.

ACTION: Notice of Proposed New Fee Site.

SUMMARY: The Willamette National Forest is planning to charge a fee at Benson Lake Trailhead and adjacent Scott Lake Campground beginning the summer of 2009. Benson Lake Trailhead was in the recreation fee demonstration project prior to 2005, and fees are being reestablished to help maintain facilities and services including toilet, picnic tables, garbage collection, interpretive and informational signing, and visitor security. A $5 day use fee is being proposed and recreation passes would be honored including: The Northwest Forest Pass, Interagency Passes and Golden Passports.

Implementation Date: New fees would begin in August 2009.

ADDRESSES: Dallas Emch, Forest Supervisor, Willamette National Forest, 211 East 7th Avenue, Eugene, Oregon 97401.

FOR FURTHER INFORMATION CONTACT: Sandy Ratliff, McKenzie River Recreation Staff at (541) 822-7238. Information about proposed fee changes can also be found on the Willamette National Forest Web site: http://www.fs.fed.us/r6/willamette.

To send comments about fee proposals please submit by September 15, 2008 to: McKenzie River Ranger District. Attn: Recreation Fee Program, 57600 McKenzie Hwy, McKenzie Bridge, OR 97413 or at http://www.fs.fed.us/r6/willamette/recreation/rea-feechange/.

SUPPLEMENTARY INFORMATION: The Federal Recreation Lands Enhancement Act (Title VII, Pub. L. 108-447) directed the Secretary of Agriculture to publish a six month advance notice in the Federal Register whenever new recreation fee areas are established. Once public involvement is complete, new fee proposals will he reviewed by the Pacific Northwest Recreation Resource Advisory Committee (RRAC). The RRAC will discuss and forward their recommendation to the Regional Forester who makes the final decision on behalf of the Secretary of Agriculture. Information about the Pacific Northwest Recreation Resource Advisory Committee, RRAC meeting dates and location can be found on the Region 6 (Oregon/Washington) Forest Service Web site at: http://www.fs.fed.us/r6/passespermits/rrac.shtml. A tentative meeting is scheduled for the end of October of 2008.

Date: August 14, 2008.
Dallas Emch,
Forest Supervisor.

[FR Doc. E8-19458 Filed 8-22-08; 8:45 am]

BILLING CODE 3410-11-M